DEPARTMENT OF JUSTICE

Drug Enforcement Administration

[Docket No. DEA-392]

Bulk Manufacturer of Controlled Substances Registration

ACTION: Notice of registration.

SUMMARY: Registrants listed below have applied for and been granted registration by the Drug Enforcement Administration (DEA) as bulk manufacturers of various classes of schedule I and II controlled substances.

SUPPLEMENTARY INFORMATION: The companies listed below applied to be registered as bulk manufacturers of various basic classes of controlled substances. Information on previously published notices is listed in the table below. No comments or objections were submitted for these notices.

Company | FR Docket | Published
AMRI Rensselaer, Inc | 83 FR 5808 | February 9, 2018.
Stepan Company | 83 FR 9029 | March 2, 2018.
Research Triangle Institute | 83 FR 10523 | March 9, 2018.
Rhodes Technologies | 83 FR 12407 | March 21, 2018.
Synthcon, LLC | 83 FR 13141 | March 27, 2018.
National Center for Natural Products—Research NIDA MPROJECT | 83 FR 13522 | March 29, 2018.
Insys Manufacturing LLC | 83 FR 13522 | March 29, 2018.
Navinta LLC | 83 FR 13521 | March 29, 2018.

The DEA has considered the factors in 21 U.S.C. 823(a) and determined that the registration of these registrants to manufacture the applicable basic classes of controlled substances is consistent with the public interest and with United States obligations under international treaties, conventions, or protocols in effect on May 1, 1971. The DEA investigated each of the company's maintenance of effective controls against diversion by inspecting and testing each company's physical security systems, verifying each company's compliance with state and local laws, and reviewing each company's background and history.

Therefore, pursuant to 21 U.S.C. 823(a), and in accordance with 21 CFR 1301.33, the DEA has granted a registration as a bulk manufacturer to the above listed companies.

Dated: June 12, 2018.
John J. Martin,
Assistant Administrator.

[FR Doc. 2018-13223 Filed 6-19-18; 8:45 am]

BILLING CODE 4410-09-P